ENVIRONMENTAL PROTECTION AGENCY

[FRL-9904-94-OW]

Clean Water Act; Contractor Access to Confidential Business Information

AGENCY: Environmental Protection Agency (EPA).

ACTION: Notice of Intended Transfer of Confidential Business Information to Contractor, Subcontractors, and Consultants.

SUMMARY: The Environmental Protection Agency (EPA's) has authorized Abt Associates, Inc. (Abt), its subcontractors, and its consultants to access confidential business information (CBI) collected from numerous industries. Transfer of this information is necessary for Abt to assist EPA in the preparation of effluent guidelines and standards for certain industries.

In accordance with 40 CFR § 2.302(h), we have determined that the contractors listed below require access to CBI submitted to EPA under Section 308 of the Clean Water Act (CWA) and in connection with other programs listed below. Therefore, we are providing notice and an opportunity to comment to the affected submitters of information. The nature of the work and its necessity, and the type of access granted, is described below for each contractor. Information has been provided to this contractor under a previous agreement since May 30, 2007.

Transfer of the information to Abt will allow the contractor and subcontractors to support EPA in the planning, development, and review of effluent limitations guidelines and standards under the CWA. The information being transferred was or will be collected under the authority of Section 308 of the CWA. Some information being transferred from the pulp, paper, and paperboard industry was collected under the additional authorities of Section 114 of the Clean Air Act and Section 3007 of the Resource Conservation and Recovery Act. Interested persons may submit comments on this intended transfer of information to the address noted below.

DATES: Comments on the transfer of data are due January 6, 2014.

ADDRESSES: Comments may be sent to Mr. M. Ahmar Siddiqui, Document Control Officer, Engineering and Analysis Division (4303T), Room 6231S WJC West, U.S. EPA, 1200 Pennsylvania Ave. NW., Washington, DC 20460.

FOR FURTHER INFORMATION CONTACT: Mr. M. Ahmar Siddiqui, Document Control Officer, at (202) 566-1044, or via email at siddiqui.ahmar@epa.gov.

SUPPLEMENTARY INFORMATION: EPA has transferred CBI to various contractors and subcontractors over the history of the effluent guidelines program. EPA determined that this transfer was necessary to enable the contractors and subcontractors to perform their work in supporting EPA in planning, developing, and reviewing effluent guidelines and standards for certain industries.

Today, EPA is giving notice that it has entered into a contract with Abt, contract number EP-C-13-039, located in Cambridge, Massachusetts. The purpose of this contract is to secure economic and environmental analysis support for EPA in its development, review, implementation, and defense of water-related initiatives for a variety of industries. To obtain assistance in responding to this contract, Abt has entered into contracts with the following subcontractors: Aqua Terra Consultants (located in Mountain View, California), Avanti Corporation (located in Alexandria, Virginia), Great Lakes Environmental Center (located in Traverse City, Michigan), Horizon Systems Corporation (located in Herndon, Virginia), ICF International (located in Fairfax, Virginia), PG Environmental (located in Herndon, Virginia), RPS ASA dba Applied Science Associates (located in South Kingstown, Rhode Island), and RTI International (located in Research Triangle Park, North Carolina). Abt has also entered into contracts with the following consultants: Robert J. Johnston, Ph.D. (located in Millville, Massachusetts) and R. Srinivasan, Ph.D. (located in College Station, Texas).

All EPA contractor, subcontractor, and consultant personnel are bound by the requirements and sanctions contained in their contracts with EPA and in EPA's confidentiality regulations found at 40 CFR Part 2, Subpart B. Abt will adhere to EPA-approved security plans which describe procedures to protect CBI. Abt will apply the procedures in these plans to CBI previously gathered by EPA and to CBI that may be gathered in the future. The security plans specify that contractor personnel are required to sign non-disclosure agreements and are briefed on appropriate security procedures before they are permitted access to CBI. No person is automatically granted access to CBI: A need to know must exist.

The information that will be transferred to Abt consists of information previously collected by EPA to support the development and review of effluent limitations guidelines and standards under the CWA. In particular, information, including CBI, collected for the planning, development, and review of effluent limitations guidelines and standards for the following industries may be transferred: airport deicing; aquaculture; centralized waste treatment; coalbed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; unconventional oil and gas extraction; steam electric power generation; textile mills; timber products processing; tobacco; and transportation equipment cleaning.

EPA also intends to transfer to Abt all information listed in this notice, of the type described above (including CBI) that may be collected in the future under the authority of Section 308 of the CWA or voluntarily submitted (e.g., in comments in response to a Federal Register notice), as is necessary to enable Abt to carry out the work required by its contract to support EPA's effluent guidelines planning process and the development of effluent limitations guidelines and standards.

Dated: December 13, 2013.
Elizabeth Southerland,
Director, Office of Science and Technology.

[FR Doc. 2013-31353 Filed 12-30-13; 8:45 am]

BILLING CODE 6560-50-P